DEPARTMENT OF DEFENSE

Department of the Army, Corps of Engineers

Intent To Prepare a Draft Environmental Impact Statement Regarding the Wolfpen Knob Development Company's Proposed Mason Dixon Mining Complex, a Deep Coal Mine, Located 1.3 Miles Northwest of Wadestown, in the Battelle District of Monongalia County, WV

AGENCY: Department of the Army, U.S. Army Corps of Engineers, DoD.

ACTION: Notice of intent.

SUMMARY: The U.S. Army Corps of Engineers, Pittsburgh District (Corps), intends to prepare a draft Environmental Impact Statement (EIS) for the proposed Mason Dixon Mining Complex. The District Engineer is requiring an EIS to be prepared to assess the direct, indirect, and cumulative environmental, social, and economic effects that the issuance of a Department of the Army permit, under Section 404 of the Clean Water Act, may have related to discharges of dredge and fill material into Waters of the United States associated with the construction of the proposed Mason Dixon Mining Complex. The Corps will prepare the EIS in accordance with the National Environmental Policy Act of 1969 (NEPA), NEPA's implementing regulations and the applicable Corps' regulations.

ADDRESSES: U.S. Army Corps of Engineers, Pittsburgh District, William S. Moorhead Federal Building, 1000 Liberty Avenue Pittsburgh, PA 15222-4186.

FOR FURTHER INFORMATION CONTACT: Jon T. Coleman, Regulatory Project Manager, at mason.dixon@usace.army.mil or (412) 395-7188.

SUPPLEMENTARY INFORMATION:

1. Description of the Proposed Action: The purpose of the Mason Dixon Mining Complex, as proposed by the permit applicant, the Wolfpen Knob Development Company, is to extract bituminous coal from the Pittsburgh coal seam. The mining complex will include: A deep mine, a preparation plant, a refuse disposal site, a water impoundment, and a new rail line. The estimated lifespan of the proposed mining complex would be approximately 20 years. Coal from the Pittsburgh seam will be processed at the preparation plant with refuse being sent to the refuse disposal site. The water impoundment would provide water for the operation of the preparation plant and dust control at the deep mine, preparation plant, and associated haul roads. A railroad line would be constructed to link the proposed mining operations with the national railroad distribution network.

2. Alternatives: Alternatives available to the Corps for the proposed project are to: (1) Issue the Department of the Army Permit, (2) issue the Department of the Army permit with special conditions, or (3) deny the Department of the Army permit. Alternatives available to Wolfpen Knob Development Company are to: (1) Construct, operate, and reclaim the Mason Dixon Mining Complex preparation plant, deep mine, disposal area, and freshwater impoundment and rail line as proposed in the proposed location; (2) construct, operate, and reclaim the Mason Dixon Mining Complex preparation plant, deep mine, disposal area, and freshwater impoundment and rail line in a different location; (3) construct, operate, and reclaim the Mason Dixon Mining Complex preparation plant, deep mine, disposal area, and freshwater impoundment and rail line using different methods; or (4) take no action and forgo the construction, operation, and reclamation of the Mason Dixon Mining Complex preparation plant, deep mine, disposal area, and freshwater impoundment and rail line and secure needed coal supplies elsewhere.

3. Scoping and Public Review Process: One or more public scoping meetings to disseminate information about the proposed project and its potential effects on the human environment and to seek public comments on the proposed project will be conducted. Additional public information meeting(s) may be held during the draft EIS process. Relevant comments and issues identified by the public and interested parties will be incorporated into the document as appropriate.

4. The public scoping meeting will be held at the Clay-Battelle High School located at Route 7 West Blacksville, West Virginia on January 17, 2012. The meeting will begin at 5:30 p.m. and conclude at 8:30 p.m. In the event of inclement weather, the meeting will be held on January 25, 2012. Consult the Corps' Web site, http://www.lrp.usace.army.mil/or/or-f/permits.htm, for meeting updates.

5. Significant Issues: Based on preliminary analysis, the issues to be given significant analysis in the EIS are likely to include, but not be limited to: The effects to surface water and groundwater resources, including water quantity and quality, effects on the immediate and adjacent property owners and nearby communities, downstream hydraulics and hydrology, geologic resources, vegetation, fish and wildlife, threatened and endangered species, soils, prime farmland, noise, light, aesthetics, historic and prehistoric cultural resources, socioeconomics, land use, public roads, and air quality.

6. Cooperating Agencies: Identified cooperating agencies include the U.S. Surface Transportation Board and the U.S. Environmental Protection Agency (Region III). All other agencies (including Federal, state and local agencies, as well as tribes) which have special expertise with respect to any environmental issue which should be addressed in the draft EIS should submit a letter of intent to be a Cooperating Agency to Jon T. Coleman, Regulatory Project Manager, at (see ADDRESSES).

7. Additional Review and Consultation: Compliance with other Federal and State requirements that will be addressed in the EIS include, but will not be limited to, state water quality certification under Section 401 of the Clean Water Act, protection of water quality under the West Virginia/National Pollutant Discharge Elimination System, protection of air quality under the West Virginia Air Pollution Control Act, protection of endangered and threatened species under Section 7 of the Endangered Species Act, and protection of cultural resources under Section 106 of the National Historic Preservation Act.

8. Availability of the Draft EIS: It is estimated that a draft EIS is will be available for public review in 6 to 12 months. Individuals interested in obtaining a copy of the draft EIS for review should contact Jon T. Coleman.

Dated: November 30, 2011.
William H. Graham,
Colonel, Corps of Engineers, District Engineer.

[FR Doc. 2011-31873 Filed 12-12-11; 8:45 am]

BILLING CODE 3720-58-P